DEPARTMENT OF DEFENSE

Office of the Secretary

Charter Renewal of Department of Defense Federal Advisory Committees

AGENCY: Department of Defense.

ACTION: Renewal of Federal Advisory Committee.

SUMMARY: The Department of Defense (DoD) is publishing this notice to announce that it is renewing the charter for the United States Strategic Command Strategic Advisory Group (“the Group”).

FOR FURTHER INFORMATION CONTACT: Jim Freeman, Advisory Committee Management Officer for the Department of Defense, 703-692-5952.

SUPPLEMENTARY INFORMATION: The Group's charter is being renewed in accordance with the Federal Advisory Committee Act (FACA) of 1972 (5 U.S.C., Appendix, as amended) and 41 CFR 102-3.50(d). The Group's charter and contact information for the Board's Designated Federal Officer (DFO) can be found at http://www.facadatabase.gov/. The Group provides the Secretary of Defense and the Deputy Secretary of Defense, through the Chairman of the Joint Chiefs of Staff and the Commander of the United States Strategic Command (USSTRATCOM), with independent advice and recommendations on: (a) Scientific, technical, intelligence, and policy-related matters of interest to the Joint Chiefs of Staff and the USSTRATCOM concerning the development and implementation of the Nation's strategic war plans; (b) Enhancements in USSTRATCOM's mission area responsibilities; and (c) Other matters related to the Nation's strategic forces, as requested by the Chairman of the Joint Chiefs of Staff or the Commander, USSTRATCOM.

The Board is composed of no more than 20 members who are eminent authorities in the fields of strategic policy formulation; nuclear weapon design; national command, control, communications, intelligence, and information operations; or other important aspects of the Nation's strategic forces. All members of the Group are appointed to provide advice on behalf of the Government on the basis of their best judgment without representing any particular point of view and in a manner that is free from conflict of interest. Except for reimbursement of official Group-related travel and per diem, Group members serve without compensation. The DoD, when necessary and consistent with the Group's mission and DoD policies and procedures, may establish subcommittees, task forces, or working groups to support the Board. Currently, the Chairman of the Joint Chiefs of Staff has approved one permanent subcommittee to the Group, the Stockpile Assessment Team (“the Team”). The Team is composed of no more than 15 members who are eminent authorities in the fields of strategic policy formulation; nuclear weapon design; national command, control, communications, intelligence, and information operations; or other important aspects of the Nation's strategic forces. The public or interested organizations may submit written statements to Group membership about the Group's mission and functions. Written statements may be submitted at any time or in response to the stated agenda of planned meeting of the Group. All written statements shall be submitted to the DFO for the Group, and this individual will ensure that the written statements are provided to the membership for their consideration.

Dated: April 21, 2016.
Aaron Siegel,
Alternate OSD Federal Register Liaison Officer, Department of Defense.

[FR Doc. 2016-09736 Filed 4-26-16; 8:45 am]

BILLING CODE 5001-06-P